DEPARTMENT OF ENERGY

Federal Energy Regulatory Commission

[Docket No. EG03-3-000, et al.]

Sithe/Independence Power Partners, L.P., et al.; Electric Rate and Corporate Regulation Filings

October 17, 2002.

The following filings have been made with the Commission. The filings are listed in ascending order within each docket classification.

1. Sithe/Independence Power Partners, L.P.

[Docket No. EG03-3-000]

Take notice that on October 15, 2002, Sithe/Independence Power Partners, L.P. (Sithe Independence) filed with the Commission an application for determination of exempt wholesale generator (EWG) status pursuant to part 365 of the Commission's regulations. Sithe Independence requested that the Commission determine that Sithe Independence is an EWG on and as of the future date that the Qualifying Facility status of its 1,060 MW electric generating facility in Oswego County, New York is terminated.

Comment Date: November 7, 2002.

2. Wolfskill Energy Center, LLC

[Docket No. EG03-4-000]

Take notice that on October 15, 2002, Wolfskill Energy Center, LLC tendered for filing with the Federal Energy Regulatory Commission (Commission) an application for Commission determination of exempt wholesale generator status pursuant to part 365 of the Commission's regulations.

Wolfskill, a Delaware limited liability company, proposes to own and operate a nominally rate 45 MW natural gas-fired, simple cycle electric generating facility to be located in Solano County, California. Wolfskill intends to sell the output at wholesale to an affiliated marketer.

Comment Date: November 7, 2002.

3. Appalachian Power Company

[Docket No. ER01-3122-003]

Take notice that on October 11, 2002, the American Electric Power Service Corporation (AEPSC) tendered for filing in compliance with the Letter Order issued in this Docket on May 6, 2002, an executed amended Interconnection and Operation Agreement between Appalachian Power Company and Duke Energy Wythe, LLC . The agreement is pursuant to the AEP Companies' Open Access Transmission Service Tariff (OATT) that has been designated as the Operating Companies of the American Electric Power System FERC Electric Tariff Second Revised Volume No. 6, effective June 15, 2000.

AEP requests an effective date of November 26, 2001. A copy of the filing was served upon the Virginia State Corporation Commission.

Comment Date: November 1, 2002.

4. Midwest Independent Transmission System Operator, Inc.

[Docket No. ER02-488-003]

Take notice that on October 11, 2002, the Midwest Independent Transmission System Operator, Inc., (Midwest ISO) tendered for filing certain revisions to its Operating Protocols for Existing Generators, FERC Electric Tariff, Original Rate Schedule No. 4, pursuant to the Commission's Order, Midwest Independent Transmission System Operator, Inc., 100 FERC 61,262. The Midwest ISO has requested an effective date of April 16, 2002.

The Midwest ISO has served a copy of its filing on each person whose name is listed on the official service list maintained by the Secretary in this proceeding. In addition, the Midwest ISO has electronically served a copy of this filing, with attachments, upon all Midwest ISO Members, Member representatives of Transmission Owners and Non-Transmission Owners, the Midwest ISO Advisory Committee participants, Policy Subcommittee participants, as well as all state commissions within the region and has electronically posted this filing on the Midwest ISO's website www.midwestiso.org under the heading “Filing to FERC” for other interested parties in this matter. The Midwest ISO will provide hard copies to any interested partied upon request.

Comment Date: November 1, 2002.

5. Southern Company Services, Inc.

[Docket No. ER03-38-000]

Take notice that on October 15, 2002, Southern Company Services, Inc. (SCS) filed with the Federal Energy Regulatory Commission (Commission) a Tariff for the Sale, Assignment or Transfer of Transmission Rights (Tariff). The Tariff would allow SCS to reassign transmission rights to other eligible transmission customers. An effective date of October 16, 2002 has been requested.

Comment Date: November 1, 2002.

6. Midwest Independent Transmission System Operator, Inc.

[Docket No. ER03-39-000]

Take notice that on October 15, 2002, the Midwest Independent Transmission System Operator, Inc. (Midwest ISO) tendered for filing proposed revisions to Attachment T of the Midwest ISO Open Access Transmission Tariff (OATT), FERC Electric Tariff, Second Revised Volume No. 1, which reflect that the provisions in Attachment T concerning Michigan Retail Access only apply to American Transmission Company, LLC load (i.e.,Edison Sault Electric Company and Upper Peninsula Power Co.) located in the Upper Peninsula of Michigan and not generically to the Lower Peninsula of Michigan. The Midwest ISO has requested an effective date of November 25, 2002.

The Midwest ISO has electronically served a copy of this filing upon all Midwest ISO Members, Member representatives of Transmission Owners and Non-Transmission Owners, the Midwest ISO Advisory Committee participants, Policy Subcommittee participants, as well as all state commissions within the region. In addition, the filing has been electronically posted on the Midwest ISO's website at www.midwestiso.org under the heading “Filings to FERC” for other interested parties in this matter. The Midwest ISO will provide hard copies to any interested parties upon request.

Comment Date: November 5, 2002.

7. Accent Energy Midwest LLC

[Docket No. ER03-40-000]

Take notice that on October 15, 2002, Accent Energy Midwest LLC (Accent Energy) tendered for filing a Notice of Succession in the above-referenced docket involving Accent Energy FERC Electric Tariff, Original Volume No. 1, Original Sheet Nos. 1-2.

Comment Date: November 5, 2002.

8. Puget Sound Energy, Inc.

[Docket No. ER03-41-000]

Take notice that on October 15, 2002, Puget Sound Energy, Inc. (PSE), tendered for filing Revision 3 to Exhibit C of the General Transmission Agreement, effective as of July 8, 2002 (Revision 3), amending the General Transmission Agreement entered into as of December 1, 1994, by the United States of America, Department of Energy, acting by and through the Bonneville Power Administration (BPA) and PSE. A copy of the filing was served upon BPA.

PSE states that the IR Agreement relates to integrated transmission service by BPA with respect to certain of PSE's resources and to certain other contractual arrangements between BPA and PSE affecting such transmission service.

Comment Date: November 5, 2002.

9. Sithe/Independence Power Partners, L.P.

[Docket No. ER03-42-000]

Take notice that on October 15, 2002, Sithe/Independence Power Partners, L.P. (Sithe Independence) petitioned the Commission to (1) accept for filing Sithe Independence's FERC Electric Tariff No. 1 (Tariff No. 1) and grant Sithe Independence the blanket authority to make market-based sales of energy, capacity and ancillary services under its Tariff No. 1; (2) accept for filing the Amended and Restated Energy Purchase Agreement By and Between Sithe Independence and Consolidated Edison Company of New York, Inc. dated September 1, 2000 and amended on June 3, 2002, designated as Sithe Independence's Original Service Agreement No. 1; (3) accept for filing the Energy Purchase Agreement Between Sithe Independence and Niagara Mohawk Power Corporation dated July 24, 1992, and amended on November 16, 1992 and June 28, 2001 and supplemented by a letter on March 29, 2000, designated as Sithe Independence's Original Service Agreement No. 2; (4) grant Sithe Independence a waiver of the code of conduct requirement and the restriction on sales to two of its public utility affiliates with franchised service territories, PECO Energy Company and Commonwealth Edison Company; (5) grant Sithe Independence such waivers and authorizations as have been granted by the Commission to other entities authorized to transact at market-based rates; (6) grant Sithe Independence a waiver of the 60-day and 120-day notice requirements in Section 35.3 of the Commission's regulations, 18 CFR 35.3, to the extent necessary to permit this filing to become effective conditioned on and as of the future date that the Qualifying Facility status of its 1,060 MW electric generating facility in Oswego County, New York, is terminated; and (7) grant Sithe Independence a waiver of the Commission's filing requirements if and to the extent that the Commission determines that Sithe Independence's Original Service Agreement Nos. 1 and/or 2 are not in full compliance with the requirements of Order No. 614.

Comment Date: November 5, 2002.

10. Arizona Public Service Company

[Docket No. ER03-43-000]

Take notice that on October 15, 2002, Arizona Public Service Company tendered for filing a Notice of Cancellation for APS-FPC Rate Schedule No. 21 effective date August 13, 1963.

Notice of the proposed cancellation has been served to Electrical District No. 5 and The Arizona Corporation Commission.

Comment Date: November 5, 2002.

11. BOC Energy Services, Inc.

[Docket No. ER03-44-000]

Take notice that on October 15, 2002, BOC Energy Services, Inc. (BOC) petitioned Federal Energy Regulatory Commission (Commission) for acceptance of BOC Rate Schedule FERC No. 1; the granting of certain blanket approvals, including the authority to sell electricity and certain ancillary services at market-based rates; and the waiver of certain Commission regulations.

BOC intends to engage in wholesale electric power and energy purchases and sales as a marketer. BOC is not in the business of generating or transmitting electric power. BOC is a Delaware corporation engaged primarily in the business of serving the load of affiliate air separation facilities.

Comment Date: November 5, 2002.

12. Virginia Electric and Power Company

[Docket No. ER03-45-000]

Take notice that Virginia Electric and Power Company (the Company) on October 15, 2002, respectfully tendered for filing A Notice of Cancellation of the Service Agreements with Sempra Energy Trading Corp., effective December 16, 2002, designated as Seventh Revised Service Agreement No. 253 under FERC Electric Tariff, Second Revised Volume No. 5, Firm Point to Point Transmission Service Agreement and Seventh Revised Service Agreement No. 49 under FERC Electric Tariff, Second Revised Volume No. 5, Non-Firm Point-to-Point Transmission Service Agreement.

Copies of the filing were served upon Sempra Energy Trading Corp., the Virginia State Corporation Commission, and the North Carolina Utilities Commission.

Comment Date: November 5, 2002.

13. Minnesota Power Superior Water, Light & Power Company and Rainy River Energy Corporation

[Docket No. ER03-46-000]

Take notice that on October 15, 2002, Minnesota Power and its affiliates Superior Water, Light & Power Company and Rainy River Energy Corporation filed an application requesting that the Commission waive the code of conduct requirement for Rainy River Energy Corporation (RREC) in order to permit its affiliate Split Rock Energy LLC to assist in the sale of RREC's resources to unaffiliated third-parties.

Comment Date: November 5, 2002.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov using the “RIMS” link, select “Docket #” and follow the instructions (call 202-208-2222 for assistance). Protests and interventions may be filed electronically via the Internet in lieu of paper; see 18 CFR 385.2001(a)(1)(iii) and the instructions on the Commission's web site under the “e-Filing” link.

Linwood A. Watson, Jr.,
Deputy Secretary.

[FR Doc. 02-28574 Filed 11-7-02; 8:45 am]

BILLING CODE 6717-01-P